INTERNATIONAL TRADE COMMISSION

[Investigation No. 731-TA-125 (Fourth Review)]

Potassium Permanganate From China

Determination

On the basis of the record ¹ developed in the subject five-year review, the United States International Trade Commission (“Commission”) determines, pursuant to the Tariff Act of 1930, that revocation of the antidumping duty order on Potassium Permanganate from China would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted this review on September 1, 2015 (80 FR 52743) and determined on December 7, 2015 that it would conduct an expedited review (80 FR 79097, December 18, 2015).

The Commission made this determination pursuant to section 751(c) of the Tariff Act of 1930 (19 U.S.C. 1675(c)). It completed and filed its determination in this review on February 2, 2016.² The views of the Commission are contained in USITC Publication 4590 (January 2016), entitled Potassium Permanganate from China: Investigation No. 731-TA-125 (Fourth Review).

² The Commission has the authority to toll statutory deadlines during a period when the federal government is closed. Because the Commission was closed on January 25 and 26, 2016 due to inclement weather in Washington, DC, the Commission tolled the statutory deadline in this review by two days.

By order of the Commission.
Issued: February 2, 2016.
Lisa R. Barton,
Secretary to the Commission.

[FR Doc. 2016-02344 Filed 2-5-16; 8:45 am]

BILLING CODE 7020-02-P